DEPARTMENT OF THE INTERIOR

Bureau of Land Management

[OR-958-1430-ET; HAG05-0004; OR 52171]

Termination of Classification and Order Providing for Opening of Land, OR 52171

AGENCY: Bureau of Land Management (BLM), Interior.

ACTION: Notice.

SUMMARY: This notice terminates the existing classification in its entirety for public lands that were classified as suitable for lease/disposal pursuant to the Recreation and Public Purposes Act of June 14, 1926, as amended (43 U.S.C. 869 et seq.), and opens 3.00 acres of land to surface entry and mining, subject to the existing laws, rules, and regulations applicable to public lands administered by the Bureau of Land Management.

EFFECTIVE DATE: February 28, 2005.

FOR FURTHER INFORMATION CONTACT: Lakisha Sloan, Land Law Examiner, Oregon State Office, PO Box 2965, Portland, OR 97208, 503-808-6595, or Stuart Hirsh, Realty Specialist, Salem District Office, 1717 Fabry Road SE., Salem, OR 97306, (503) 375-5623.

SUPPLEMENTARY INFORMATION: On July 19, 1995, 3.00 acres of public land under the jurisdiction of the Bureau of Land Management were classified as suitable for lease pursuant to the Recreation and Public Purposes Act of June 14, 1926, as amended, (43 U.S.C. 869 et seq.), and the regulations at 43 CFR 2400. Upon classification the land was leased to the Pacific City water district for the construction, operation, and maintenance of an administration/maintenance facility for the term of 25 years under Bureau of Land Management Serial Number OR 52171. On May 20, 2004, this lease was relinquished.

The formerly leased land is described as follows:

Willamette Meridian, Oregon

T. 4 S., R. 10 W.,

Sec. 19, Lot 18

The area described contains 3.00 acres in Tillamook County, Oregon.

At 8:30 a.m., on February 28, 2005, the land will be opened to operation of the public land laws generally, but not to location or entry, subject to valid existing rights, the provisions of existing withdrawals, and the requirements of applicable law. All valid existing applications received at or prior to 8:30 a.m., on February 28, 2005, will be considered as simultaneously filed at that time. Those received thereafter will be considered in the order of filing.

At 8:30 a.m., on February 28, 2005, the land will be opened to location and entry under the United States mining laws. Appropriation under the general mining laws prior to the date and time of restoration is unauthorized. Any such attempted appropriation, including attempted adverse possession under 30 U.S.C. Sec. 38, shall vest no rights against the United States. Acts required to establish a location and to initiate a right of possession are governed by State law where not in conflict with Federal law. The Bureau of Land Management will not intervene in disputes between rival locators over possessory rights since Congress has provided for such determination in local courts.

(Authority: 43 CFR 2461.5(c)(2)).

Ralph R. Kuhns, Jr.,
Acting, Chief, Branch of Realty and Records Services.

[FR Doc. 05-1595 Filed 1-27-05; 8:45 am]

BILLING CODE 4310-33-P